NUCLEAR REGULATORY COMMISSION

[NRC-2013-0173]

Proposed Safety Evaluation for Plant-Specific

Technical Specifications Task Force Traveler, “Generic Letter 2008-01, Managing Gas Accumulation”

AGENCY: Nuclear Regulatory Commission.

ACTION: Notice of opportunity for public comment.

SUMMARY: The U.S. Nuclear Regulatory Commission (NRC) is requesting public comment on the proposed model safety evaluation (SE) for plant-specific adoption of Technical Specifications (TS) Task Force (TSTF) Traveler TSTF-523, Revision 2, “Generic Letter 2008-01, Managing Gas Accumulation.”

DATES: Comments msut be filed no later than September 3, 2013. Comments received after this date will be considered, if it is practical to do so, but the Commission is able to ensure consideration only for comments received on or before this date.

ADDRESSES: You may access information and comment submissions related to this document that the NRC possesses and are publicly available by searching on http://www.regulations.gov under Docket ID NRC-2013-0173. You may submit comments by any of the following methods:

• Federal Rulemaking Web site: Go to http://www.regulations.gov and search for Docket ID NRC-2013-0173. Address questions about NRC dockets to Carol Gallagher; telephone: 301-287-3422 or email: Carol.Gallagher@nrc.gov.

• Mail comments to: Cindy Bladey, Chief, Rules, Announcements, and Directives Branch (RADB), Office of Administration, Mail Stop: 3WFN 06A, U.S. Nuclear Regulatory Commission, Washington, DC 20555-0001.

For additional direction on accessing information and submitting comments, see “Accessing Information and Submitting Comments” in the SUPPLEMENTARY INFORMATIONsection of this document.

FOR FURTHER INFORMATION CONTACT: Mrs. Michelle C. Honcharik, Office of Nuclear Reactor Regulation, U.S. Nuclear Regulatory Commission, Washington, DC, 20555-0001; telephone: 301-415-1774 or email: Michelle.Honcharik@nrc.gov. For technical questions please contact Mr. Matthew Hamm, Office of Nuclear Reactor Regulation, U.S. Nuclear Regulatory Commission, Washington, DC, 20555-0001; telephone: 301-415-1472 or email: Matthew.Hamm@nrc.gov.

SUPPLEMENTARY INFORMATION:

Accessing Information and Submitting Comments

A. Accessing Information

Please refer to Docket ID NRC-2013-0173 when contacting the NRC about the availability of information regarding this document. You may access information related to this document by the following methods:

• Federal Rulemaking Web site: Go to http://www.regulations.gov and search for Docket ID NRC-2013-0173.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Technical Specification Task Force Traveler—TSTF-523, Revision 2, includes a model application and is available under ADAMS Accession Number ML13053A075. The proposed model SE for plant-specific adoption of TSTF-523, Revision 2, is also available under ADAMS Accession Number ML13113A181.

• NRC's PDR: You may examine and purchase copies of public documents at the NRC's PDR, Room O1-F21, One White Flint North, 11555 Rockville Pike, Rockville, Maryland 20852.

B. Submitting Comments

Please include Docket ID NRC-2013-0173 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Background

Technical Specification Task Force Traveler—TSTF-523, Revision 2, is applicable to all power plants. The proposed change revises the Standard Technical Specifications (STS), NUREG-1430, “Standard Technical Specifications Babcock and Wilcox Plants,” NUREG-1431, “Standard Technical Specifications Westinghouse Plants,” NUREG-1432, “Standard Technical Specifications Combustion Engineering Plants,” NUREG-1433, “Standard Technical Specifications General Electric Plants BWR/4,” and NUREG-1434, “Standard Technical Specifications General Electric Plants, BWR/6.” This STS improvement is part of the consolidated line item improvement process (CLIIP).

Specifically, the proposed change modifies the existing Surveillance Requirements (SRs) related to gas accumulation for the emergency core cooling system and adds new SRs on entrained gas to the specifications governing the decay heat removal (also called the residual heat removal and shutdown cooling systems) and the containment spray systems. Similar changes are made to the existing SR on the reactor core isolation cooling system to maintain consistency within the STS. Existing SRs are revised to facilitate the performance of the proposed gas accumulation SR. The TS Bases are revised to reflect the change to the SRs. The proposed change captures the on-going activities related to system Operability needed to address the concerns in the Generic Letter (GL) 2008-01, “Managing Gas Accumulation in Emergency Core Cooling, Decay Heat Removal, and Containment Spray Systems,” dated January 11, 2008 (ADAMS Accession No. ML072910759).

Additional Details

This notice provides an opportunity for the public to comment on proposed changes to the STS after a preliminary assessment and finding by the NRC staff that the agency will likely offer the changes for adoption by licensees. This notice solicits comment on proposed changes to the STS, which if implemented by a licensee will modify the plant-specific TS. The NRC staff will evaluate any comments received for the proposed changes and reconsider the changes or announce the availability of the changes for adoption by licensees as part of the CLIIP. Licensees opting to apply for this TS change are responsible for reviewing the NRC staff's SE and the applicable technical justifications, providing any necessary plant-specific information, and assessing the completeness and accuracy of their license amendment request (LAR). The NRC will process each amendment application responding to the notice of availability according to applicable NRC rules and procedures.

The proposed change does not prevent licensees from requesting an alternate approach or proposing changes other than those proposed in TSTF-523, Revision 2. However, significant deviations from the approach recommended in this notice or the inclusion of additional changes to the license require additional NRC staff review. This may increase the time and resources needed for the review or result in NRC staff rejection of the LAR. Licensees desiring significant deviations or additional changes should instead submit an LAR that does not claim to adopt TSTF-523, Revision 2.

Dated at Rockville, Maryland, this 9th day of July 2013.
For the Nuclear Regulatory Commission,
Anthony J. Mendiola,
Chief, Licensing Processes Branch, Division of Policy and Rulemaking, Office of Nuclear Reactor Regulation.

[FR Doc. 2013-18677 Filed 8-1-13; 8:45 am]

BILLING CODE 7590-01-P